FEDERAL COMMUNICATIONS COMMISSION

[FR ID 318180]

Sunshine Act Meeting; Open Commission Meeting Thursday, November 20, 2025

November 13, 2025.

The Federal Communications Commission will hold an Open Meeting on the subjects listed below on Thursday, November 20, 2025 which is scheduled to commence at 10:30 a.m. in the Commission Meeting Room of the Federal Communications Commission, 45 L Street NE, Washington, DC.

While attendance at the Open Meeting is available to the public, the FCC headquarters building is not open access, and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireless Telecommunications | Title: Freeing Up Large Swath of Upper C-band Frequencies (GN Docket No. 25-59). Summary: The Commission will consider a Notice of Proposed Rulemaking that explores options for reconfiguring the Upper C-band (3.98 GHz to 4.2 GHz) in the contiguous United States, in furtherance of Congress' direction in the One Big Beautiful Bill Act.
2 | Consumer and Governmental Affairs | Title: Modernizing Telecommunications Relay Services (CG Docket No. 03-123); Speech-to-Speech and Internet Protocol (IP), Speech-to-Speech Telecommunications Relay Services (CG Docket No. 08-15). Summary: The Commission will consider a Notice of Proposed Rulemaking that would seek comment on terminating the mandatory status of TTY-based relay service for state-based TRS programs; facilitate the transition of analog TRS users to Internet-based forms of TRS; propose and seek comment on recognizing IP STS as a compensable form of TRS; explore certifying a national analog relay provider; and seek comment on streamlining TRS provider certification and data collection processes, updating or eliminating obsolete rules, and closing an outdated docket.
3 | Public Safety and Homeland Security | The Commission will consider as part of the Delete, Delete, Delete proceeding a Direct Final Rule that would move to delete approximately 21 rules and requirements that have sunset by operation of law; govern an expired event; regulate an obsolete technology; are no longer used in practice by the FCC or licensees; or are otherwise duplicative, outdated, or unnecessary.
4 | Public Safety and Homeland Security | Title: Protecting the Nation's Communications Systems from Cybersecurity Threats (PS Docket No. 22-329). Summary: The Commission will consider an Order on Reconsideration that advances an agile and collaborative approach to protecting the nation from cyberattacks by rescinding an unlawful and ineffective January 2025 Declaratory Ruling and NPRM.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairman may hold a news conference in which he will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Authority: This meeting is held, in accordance with the Government in the Sunshine Act (Sunshine Act), Public Law 94-409, as amended (5 U.S.C. 552b).

Federal Communications Commission.
Marlene Dortch,
Secretary.

[FR Doc. 2025-20263 Filed 11-17-25; 11:15 am]

BILLING CODE 6712-01-P